DEPARTMENT OF JUSTICE

Notice of Lodging of Stipulation of Settlement and Judgment under the Resource Conservation and Recovery Act, Clean Air Act, Clean Water Act, and the Comprehensive Environmental Response, Compensation, and Liability Act

Under 28 CFR 50.7, notice is hereby given that on June 6, 2006, a proposed Stipulation of Settlement and Judgment in United States et al., v. Marine Shale Processors, Inc., et al., Civil Action No. 90-1240 was lodged with the United States District Court for the Western District of Louisiana.

In this action the United States and the Louisiana Department of Environmental Quality (“LDEQ”) sought civil penalties and injunctive relief under section 3008(a) of the Resource Conservation and Recovery Act (“RCRA”); civil penalties under section 113(b) of the Clean Air Act and section 309(b) of the Clean Water Act; and reimbursement for response costs incurred or to be incurred under section 107 of the Comprehensive Environmental Response, Compensation, and Liability Act (“CERCLA”) regarding contaminated facilities owned and operated by Marine Shale Processors, Inc. (“Marine Shale”) and Recycling Park Inc. (“Recycling Park”) located in Amelia, Louisiana. 33 U.S.C. 1319(b), 42 U.S.C. 6928(a), 7413(b), 9607.

Under the proposed Stipulation of Settlement and Judgment, the Court will center a $6.2 million judgment for penalties, in favor of the United States and LDEQ, against Marine Shale and Recycling Park. A separate $6.2 million in proceeds from Marine Shale will be transferred to LDEQ for the closure and remediation of the contamination at the Marine Shale and Recycling Park facilities. An additional $850,000 letter of credit posted by Marine Shale will also be transferred to LDEQ and used for the cleanup of the Marine Shale and Recycling Park facilities. In addition, Marine Shale, Recycling Park, and John Kent, Sr., the owner of the two companies, are prohibited from owning or controlling a majority interest in or participating in the management of any business involved in waste management or recycling. The three parties are also required to provide access as required for investigation, closure and remediation at the Marine Shale and Recycling Park facilities and agree to a number of institutional controls and deed restrictions necessary to assure the implementation and effectiveness of the remedial actions to be taken at the facilities. After EPA LDEQ certify that the cleanups at the Marine Shale and Recycling Park facilities have been completed, the governments have the option of receiving the proceeds from the sale of the properties to satisfy the civil penalty judgment. The Department of Justice will receive for a period of thirty (30) days from the date of this publication comments relating to the Stipulation of Settlement and Judgment. Comments should be addressed to the Assistant Attorney General, Environment and Natural Resources Division, P.O. Box 7611, U.S. Department of Justice, Washington, DC 20044-7611, and should refer to United States v. Marine Shale Processors, et al., D.J. Ref. No. 90-11-2-204. A public hearing will be held regarding the proposed settlement at 7 p.m. on July 19, 2006, at the Morgan City Municipal Auditorium, 705 Myrtle Street, Morgan City, Louisiana.

The Stipulation of Settlement and Judgment may be examined during the public comment period on the following Department of Justice Web site: http://www.usdoj.gov/enrd/open.html. A copy of the Stipulation of Settlement and Judgment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $32.75 (25 cents per page reproduction cost) payable to the U.S. Treasury.

Thomas A. Mariani, Jr.,
Assistant Section Chief, Environmental Enforcement Section, Environment and Natural Resources Division.

[FR Doc. 06-5768 Filed 6-27-06; 8:45 am]

BILLING CODE 4410-15-M